DEPARTMENT OF DEFENSE

Department of the Navy

Notice of Availability for the Draft 2006 Supplemental Environmental Assessment to the 2002 Rim of the Pacific Programmatic Environmental Assessment, Hawaii; Correction

AGENCY: Department of the Navy, DOD.

ACTION: Notice; correction.

SUMMARY: The Department of the Navy published a document in the Federal Register of January 20, 2006, concerning the draft 2006 Supplemental Environmental Assessment to the 2002 Programmatic Environmental Assessment (Supplemental PEA) for the Rim of the Pacific (RIMPAC) Hawaii exercise. The notice incorrectly identified the United States National Marine Fisheries Service (NMFS), National Atmospheric and Oceanic Administration (NOAA), Department of Commerce, as a cooperating agency.

Correction

FOR FURTHER INFORMATION CONTACT: Pacific Fleet Environmental Office at 808-474-7836 or write to Commander, U.S. Pacific Fleet (N01CE1), 250 Makalapa Drive, Pearl Harbor, HI 96860.

Correction: The United States National Marine Fisheries Service (NMFS), National Atmospheric and Oceanic Administration (NOAA), Department of Commerce, is not a cooperating agency in the preparation of the Supplemental PEA.

Dated: February 14, 2006.
Eric McDonald,
Lieutenant Commander, Judge Advocate General's Corps, U.S. Navy, Federal Register Liaison Officer.

[FR Doc. E6-2414 Filed 2-17-06; 8:45 am]

BILLING CODE 3810-FF-P